DEPARTMENT OF AGRICULTURE

Commodity Credit Corporation

Draft Environmental Assessment; Giant Miscanthus in REPREVE Renewables, LLC Project Areas Under the Biomass Crop Assistance Program

AGENCY: Commodity Credit Corporation, USDA.

ACTION: Notice of availability and request for comments.

SUMMARY: This notice announces the availability of a Draft Environmental Assessment (EA) for the proposed establishment and production of giant miscanthus (Miscanthus X giganteus) as a dedicated energy crop to be grown in the REPREVE Renewables, LLC (project sponsor) proposed project areas in Georgia, North Carolina and South Carolina as part of the Biomass Crop Assistance Program (BCAP). This notice provides a means for the public to voice any concerns they may have about the proposed BCAP project areas.

DATES: We will consider comments that we receive by November 21, 2011. Comments submitted after this date will be considered to the extent possible.

ADDRESSES: We invite you to submit comments on this Draft EA. In your comment, include the volume, date, and page number of this issue of the Federal Register. You may submit comments by any of the following methods:

• Federal eRulemaking Portal: Go to http://www.regulations.gov. Follow the online instructions for submitting comments.

• E-Mail: SEGiantMiscanthusEAComments@intenvsol.com.

• Fax: (972) 562-7673 ATTN: SE Giant Miscanthus EA Comments.

• Mail: SE Giant Miscanthus EA Comments, Integrated Environmental Solutions, LLC, 2150 S Central Expy, Ste 110, McKinney, TX 75070.

• Hand Delivery or Courier: Deliver comments to the above address.

Comments may be inspected in the Office of the Director, CEPD, FSA, USDA, Room 4709 South Building, Washington, DC, between 8 a.m. and 4:30 p.m., Monday through Friday, except holidays. A copy of this notice is available through the FSA home page at http://www.fsa.usda.gov/.

You may request copies of the draft EA for Giant Miscanthus by writing to: SE Giant Miscanthus EA Draft Request, Integrated Environmental Solutions, LLC, 2150 S Central Expy, Ste 110, McKinney, TX 75070.

The draft EA can be viewed online at http://www.fsa.usda.gov/FSA/webapp?area=home&subject=ecrc&topic=nep-cd.

FOR FURTHER INFORMATION CONTACT: Matthew Ponish, National Environmental Compliance Manager, USDA/FSA/CEPD/Stop 0513, 1400 Independence Ave., SW., Washington, DC 20250-0513, phone: (202) 720-6853, e-mail: Matthew.Ponish@wdc.usda.gov. Persons with disabilities who require alternative means for communication (Braille, large print, audio tape, etc.) should contact the USDA Target Center at (202) 720-2600 (voice and TDD).

SUPPLEMENTARY INFORMATION: The United States Department of Agriculture (USDA) Commodity Credit Corporation (CCC) implements the Biomass Crop Assistance Program (BCAP). BCAP is authorized by Title IX of the Food, Conservation, and Energy Act of 2008 (the 2008 Farm Bill, Pub. L. 110-246). BCAP is administered by the Deputy Administrator for Farm Programs of the Farm Service Agency (FSA) on behalf of the CCC with the support of other Federal and local agencies and is intended to assist agricultural and forest land owners and operators with the establishment and production of eligible crops including woody biomass in selected project areas for conversion to bioenergy, and the collection, harvest, storage, and transportation of eligible material to designated biomass conversion facilities for use as heat, power, biobased products, or advanced biofuels.

REPREVE Renewables, LLC has submitted a proposal to FSA to establish BCAP project areas in Georgia, North Carolina and South Carolina as part of BCAP. The proposal is to establish and produce giant miscanthus as a dedicated energy crop. The draft EA analyzes the environmental impacts of growing giant miscanthus in those areas. FSA will review comments submitted on the draft EA in response to this notice and use the additional input in developing the final EA and decision document about whether to approve the project or not. This notice announces the availability of the draft EA and the opening of the comment period; it does not discuss the contents of the draft EA.

The EA announced in this notice is being prepared in accordance with the National Environmental Policy Act (NEPA, Pub. L. 91-190, 42 U.S.C. 4321-4347); implementing regulations adopted by the Council on Environmental Quality (CEQ) (40 CFR 1500-1508); and FSA implementing regulations for NEPA compliance (7 CFR 799). According to CEQ guidance, an EA is a “concise document for which a Federal agency is responsible that serves to (1) briefly provide sufficient evidence and analysis for determining whether to prepare an EIS or a finding of no significant impact (FONSI).” Since this document falls under the guidance of the BCAP Final PEIS, which was a broad national-level program document, CEQ guidance allows for “tiering.” CEQ guidance defines tiering as, “the coverage of general matters in broader EIS with subsequent narrower statements or environmental analyses incorporating by reference the general discussions and concentrating solely on the issues specific to the statement subsequently prepared.”

On October 27, 2010, CCC published the Record of Decision (ROD) for the BCAP final PEIS (75 FR 65995-66007) and BCAP final rule (76 FR 66202-66243) in the Federal Register. As part of the mitigation measures detailed in the ROD, each project proposal is subject to NEPA analysis prior to approval of the project area proposal. The initial environmental evaluation of a project area proposal is developed through the completion of Forms BCAP 19, BCAP-20, BCAP-21, and BCAP-22 and supporting information.

After this initial evaluation FSA can conclude either that:

(1) No additional environmental analyses are applicable due to no potential for the proposed BCAP activity to significantly impact the environment, or

(2) Additional environmental analyses in the form of an EA or EIS are necessary, depending upon the potential level of significance.

Due to inconclusive results in the initial environmental evaluation, FSA is required to do an EA to make a determination whether there could be significant environmental impacts.

Signed on October 18, 2011.
Carolyn B. Cooksie,
Acting Executive Vice President, Commodity Credit Corporation.

[FR Doc. 2011-27339 Filed 10-20-11; 8:45 am]

BILLING CODE 3410-05-P